ENVIRONMENTAL PROTECTION AGENCY

[OPP-00713; FRL-6779-3]

Notice of Availability of Regional Environmental Stewardship Program Grants

AGENCY: Environmental Protection Agency (EPA).

ACTION: Notice.

SUMMARY: EPA is announcing the availability of approximately $497 thousand in fiscal year 2001 grant/cooperative agreement funds under section 20 of the Federal Insecticide, Fungicide, and Rodenticide Act (FIFRA) as amended, for grants to States and federally recognized Native American Tribes for research, public education, training, monitoring, demonstrations, and studies.

DATES: Applications must be received by the appropriate EPA Regional Office on or before June 11, 2001. EPA will make its award decisions by July 2, 2001.

FOR FURTHER INFORMATION CONTACT: Your EPA Regional Pesticide Environmental Stewardship Program (PESP) Coordinator listed under Unit V. of this notice.

SUPPLEMENTARY INFORMATION:

I. General Information

A. Does this Action Apply to Me?

This action is directed to the public in general. This action may, however, be of interest to eligible applicants for purposes of funding under this grant program to include the 50 States, the District of Columbia, the U.S. Virgin Islands, the Commonwealth of Puerto Rico, any territory or possession of the United States, any agency or instrumentality of a State including State universities, and all federally recognized Native American tribes.

II. Availability of FY'01 Funds

With this publication, EPA is announcing the availability of approximately $497 thousand in grant/cooperative agreement funds for fiscal year 2001. The Agency has delegated grant making authority to the EPA Regional Offices.

III. Eligible Applicants

In accordance with the Act “. . .Federal agencies, universities, or others as may be necessary to carry out the purposes of the act, . . .” are eligible to receive a grant; however, because of restrictions associated with the funds appropriated for this program, the eligible applicants are limited. Eligible applicants for purposes of funding under this grant program include the 50 States, the District of Columbia, the U.S. Virgin Islands, the Commonwealth of Puerto Rico, any territory or possession of the United States, any agency or instrumentality of a State including State universities, and all federally recognized Native American Tribes. For convenience, the term “State” in this notice refers to all eligible applicants. Local governments, private universities, private nonprofit entities, private businesses, and individuals are not eligible. The organizations excluded from applying directly are encouraged to work with eligible applicants in developing proposals that include them as participants in the projects. Contact your EPA Regional PESP Coordinator for assistance in identifying and contacting eligible applicants. EPA strongly encourages this type of cooperative arrangement.

IV. Activities and Criteria

A. General

The goal of PESP is to reduce the risks associated with pesticide use in agricultural and non-agricultural settings in the United States. The purpose of the grant program is to support the establishment and expansion of integrated pest management (IPM) as a tool to be used to accomplish the goals of PESP. Projects that address the risk reduction goals of the PESP, pesticide pollution prevention, IPM, IPM in schools, children's health issues related to pesticides, or those research methods for documenting the trends toward the adoption of IPM or the reduction of risks associated with pesticide use will receive priority consideration. Other projects will be considered as they complement these goals through public education, training monitoring, demonstrations and studies and other activities.

EPA specifically seeks to build State and local IPM capacities or to evaluate the economic feasibility of new IPM approaches at the State level (i.e., innovative approaches and methodologies that use application or other strategies to reduce the risks associated with pesticide use). Funds awarded under the grant program should be used to support the goal of reducing the risk/use of pesticides. State projects might focus on, for example:

• Researching the effectiveness of multimedia communication activities for, including but not limited to: promoting local IPM activities, providing technical assistance to pesticide users; collecting and analyzing data to target outreach and technical assistance opportunities; developing measures to determine and document progress in pollution prevention; and identifying regulatory and non-regulatory barriers or incentives to pollution prevention.

• Researching methods for establishing IPM as an environmental management priority, establishing prevention goals, developing strategies to meet those goals, and integrating the ethic within both governmental and non-governmental institutions of the State or region.

• Initiating research or other projects that test and support: innovative techniques for reducing pesticide risk or using pesticides in a way to reduce risk, innovative application techniques to reduce worker and environmental exposure.

A list of projects funded in fiscal year 2000 may be obtained at http://www.epa.gov/oppbppd1/PESP/regional_grants.htm or from your Regional PESP Coordinator.

B. Criteria

EPA Regional Offices are responsible for the solicitation of interest, screening of proposals, and selection of projects. A generic request for proposal will be available on EPA's PESP web site on or before April 19, 2001, at http://www.epa.gov/oppbppd1/PESP/regional_grants.htm. Interested applicants must contact the appropriate EPA Regional PESP Coordinator to obtain specific instructions, Regional criteria, guidance, and format for submitting proposals.

Proposals will be evaluated based on the following criteria:

1. Qualifications and experience of the applicant relative to the proposed project.

• Does the applicant demonstrate experience in the field of the proposed activity?

• Does the applicant have the properly trained staff, facilities, or infrastructure in place to conduct the project?

2. Consistency of applicant's proposed project with the risk reduction goals of the PESP.

3. Does the project provide for a quantitative or qualitative evaluation of the project's success at achieving the stated goals.

• Is the project designed in such a way that it is possible to measure and document the results quantitatively and qualitatively?

• Does the applicant identify the method that will be used to measure and document the project's results quantitatively and qualitatively?

4. Likelihood the project can be replicated to benefit other communities or the product may have broad utility to a widespread audience. Can this project, taking into account typical staff and financial restraints, be replicated by similar organizations in different locations to address the same or similar problem?

C. Program Management

Awards of fiscal year 2001 funds will be managed through the EPA Regional Offices.

V. Regional Pesticide Environmental Stewardship Program Contacts

Region I: (Connecticut, Maine, Massachusetts, New Hampshire, Rhode Island, Vermont), Robert Koethe, (CPT), 1 Congress St., Suite 1100, Boston, MA 02114-2023; telephone: (617) 918-1535; e-mail address: koethe.robert@epa.gov.

Region II: (New Jersey, New York, Puerto Rico, Virgin Islands), Audrey Moore, (MS-500), Raritan Depot, 2890 Woodbridge Ave., Edison, NJ 08837-3679; telephone: (732) 906-6809; e-mail address: moore.audrey@epa.gov.

Region III: (Delaware, Maryland, Pennsylvania, Virginia, West Virginia, District of Columbia), Racine Davis, (3WC32), 1650 Arch St., Philadelphia, PA 19103-2029; telephone: (215) 814-5797; e-mail address: davis.racine@epa.gov.

Region IV: (Alabama, Florida, Georgia, Kentucky, Mississippi, North Carolina, South Carolina, Tennessee), Lora Schroeder, 61 Forsyth St., SW, Atlanta, GA 30303-8960; telephone: (404) 562-9015; e-mail address: schroeder.lora@epa.gov.

Region V: (Illinois, Indiana, Michigan, Minnesota, Ohio, Wisconsin), Heather McDonald, (DT-8J), 77 W Jackson Blvd, Chicago, IL 60604-3507; telephone: (312) 886-3572; e-mail address: mcdonald.heather@epa.gov.

Region VI: (Arkansas, Louisiana, New Mexico, Oklahoma, Texas), Jerry Collins, (6PD-P), 1445 Ross Ave., Suite 1200, Dallas, TX 75202-2733; telephone: (214) 665-7562; e-mail address: collins.jerry@epa.gov.

Region VII: (Iowa, Kansas, Missouri, Nebraska), John Tice, (WWPD-PEST), 901 N 5th St., Kansas City, KS 66101; telephone: (402) 437-5080; e-mail address: tice.john@epa.gov.

Region VIII: (Colorado, Montana, North Dakota, South Dakota, Utah, Wyoming), Debbie Kovacs, (8P2-TX), 999 18th St., Suite 300 Denver, CO 80202-2466; telephone: (303) 312-6417; e-mail address: kovacs.debbie@epa.gov.

Region IX: (Arizona, California, Hawaii, Nevada, American Samoa, Guam), Karen Heisler, (CMD-4-3), 75 Hawthorne St., San Francisco, CA 94105; telephone: (415) 744-1100; e-mail address: heisler.karen@epa.gov.

Region X: (Alaska, Idaho, Oregon, Washington), Karl Arne, (ECO-084), 1200 6th Ave., Seattle, WA 98101; telephone: (206) 553-2576; e-mail address: arne.karl@epa.gov.

VI. Submission to Congress and the Comptroller General

Under the Agency's current interpretation of the definition of a “rule,” grant solicitations such as this which are competitively awarded on the basis of selection criteria, are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects

Environmental protection.

Dated: March 28, 2001.
Phil Hutton,
Acting Director, Biopesticides and Pollution Prevention Division, Office of Pesticide Programs.

[FR Doc. 01-9059 Filed 4-11-01; 8:45 a.m.]

BILLING CODE 6560-50-S